DEPARTMENT OF VETERANS AFFAIRS

[OMB Control No. 2900-0616]

Agency Information Collection Activity (Application for Residential Care Home Program Sponsor Application, VA Form 10-2407) Under OMB Review Activity: Comment Request

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden; it includes the actual data collection instrument.

DATES: Comments must be submitted on or before October 14, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0616” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0616.”

SUPPLEMENTARY INFORMATION: Under the PRA of 1995 (Pub. L. 104-13; 44 U.S.C. 3501-3521), Federal agencies must obtain approval from OMB for each collection of information they conduct or sponsor. This request for comment is being made pursuant to section 3506(c)(2)(A) of the PRA.

Title: Residential Care Home Program Sponsor Application—VA Form 10-2407.

OMB Control Number: 2900-0616.

Type of Review: Revision of a currently approved collection.

Abstract: VA Form 10-2407 is necessary for the residential care home to qualify to provide care to veteran patients. This information is collected under the authority of title 38, part II, sections 1720 and 1730. The form covers community providers. Community Nursing Homes (CNHs) already use the form, and the form will cover Home Health and Hospice Care agencies and community adult day health care centers.

An agency may not conduct or sponsor, and a person is not required to respond to a collection of information unless it displays a currently valid OMB control number. The Federal Register Notice with a 60-day period soliciting comments on this collection of information was published at 81 FR 14679 on June 22, 2016.

Affected Public: Individuals or households.

Estimated Annual Burden: 42 hours.

Estimated Average Burden per Respondent: 5 minutes.

Frequency of Response: Annually.

Estimated Number of Respondents: 500.

By direction of the Secretary.
Cynthia Harvey-Pryor,
Program Specialist, Office of Privacy & Records Management, Department of Veterans Affairs.

[FR Doc. 2016-22073 Filed 9-13-16; 8:45 am]

BILLING CODE 8320-01-P